DEPARTMENT OF TRANSPORTATION

Federal Aviation Administration

Sixth RTCA SC-235 Non Rechargeable Lithium Batteries Plenary

AGENCY: Federal Aviation Administration (FAA), U.S. Department of Transportation (DOT).

ACTION: Sixth RTCA SC-235 Non Rechargeable Lithium Batteries Plenary.

SUMMARY: The FAA is issuing this notice to advise the public of a meeting of Sixth RTCA SC-235 Non Rechargeable Lithium Batteries Plenary.

DATES: The meeting will be held January 25, 2017 09:00 a.m.-05:00 p.m.

ADDRESSES: The meeting will be held Virtually at https://rtca.webex.com/rtca/j.php?MTID=mbbd6ff9a890bf402c705cc80485a74f1, Join by phone, 1-877-668-4493 Call-in toll-free number (U.S./Canada), 1-650-479-3208 Call-in toll number (U.S./Canada), Access code: 636 752 137.

FOR FURTHER INFORMATION CONTACT: Karan Hofmann at khofmann@rtca.org or 202-330-0680, or The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Sixth RTCA SC-235 Non Rechargeable Lithium Batteries Plenary. The agenda will include the following:

Wednesday, January 25, 2017—9:00 a.m.-5:00 p.m.

1. Welcome and Administrative Remarks

2. Introductions

3. Agenda Review

4. Meeting-Minutes Review

5. Final Review and Comment (FRAC) Process Presentation

6. Final Review of Document

7. Approve Document for FRAC

8. Review of Program Schedule

9. Action Item Review

10. Any Other Business

11. Date and Place of Next Meeting

12. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 29, 2016.
Mohannad Dawoud,
Management & Program Analyst, Partnership Contracts Branch, ANG-A17, NextGen, Procurement Services Division, Federal Aviation Administration.

[FR Doc. 2016-28992 Filed 12-1-16; 8:45 am]

BILLING CODE 4910-13-P